DEPARTMENT OF THE INTERIOR

National Park Service

[NPS-WASO-PCE-LWCF-NPS0036373; PPWOSLAD00 PGWS1S181.Y00000 XXXP503581 PS.SSLAD0R21.00.1 (223); OMB Control Number 1024-0031]

Agency Information Collection Activities; Land and Water Conservation Fund State Assistance Program

AGENCY: National Park Service, Interior.

SUMMARY: In accordance with the Paperwork Reduction Act of 1995 we, the National Park Service (NPS), are proposing to renew an information collection with revisions.

DATES: Interested persons are invited to submit comments on or before November 1, 2023.

ADDRESSES: Written comments and suggestions on the information collection requirements should be submitted by the date specified above in DATES to http://www.reginfo.gov/public/do/PRAMain. Find this particular information collection by selecting “Currently under Review—Open for Public Comments” or by using the search function. Please provide a copy of your comments to Phadrea Ponds, NPS Information Collection Clearance Officer (ADIR-ICCO), 13461 Sunrise Valley Drive (MS-244) Reston, VA 20192 (mail); or phadrea_ponds@nps.gov (email). Please include 1024-0031 (LWCF) in the subject line of your comments.

FOR FURTHER INFORMATION CONTACT: To request additional information about this ICR, contact Elisabeth Morgan, Recreation Grant Branch Chief by email at elisabeth_fondriest@nps.gov (email); or by telephone at 202-354-6916. Please reference OMB Control Number 1024-0031(LWCF) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published (87 FR 55843) on September 12, 2022. We received written comments from Washington State Recreation and Conservation Office and Oregon Parks and Recreation Department. The comments and NPS responses are summarized below.

Washington State Recreation and Conservation Office:

It would be most helpful if NPS revised and expanded A&R questions to clarify the information sought. In our experience, incomplete information provided on this form (often due to misunderstanding what is required) creates additional work, expense and time lags for RCO's subgrantees as well as NPS. We all share the same goal of wanting to provide a complete accurate initial application, within reason of what information that an applicant would have without promise of any grant funding. The commenter also provided specific feedback on ways to provide clarity to the instructions in each section.

NPS Response/Action Taken: The comments and suggestions for rewording to improve the clarity and to remove duplication of questions were accepted. To accommodate the request proposing additional instructions for questions the NPS will create annotated versions of the A&R and C&S forms to provide additional guidance.

Oregon Parks and Recreation Department:

The comments from this respondent were mainly technical in nature, addressing the wording of some questions on both the A&R and C&S Forms, as well as describing issues with formatting on these forms that make the forms more difficult for applicants to use, including “an unnecessary amount of time to correct.” The respondent also noted that Section 3.0, Subsection C. Environmental Resources Survey should be improved. The respondent recommended that Tables 1 and 2 have a column added to indicate neutral impacts (impacts that are neither positive or negative) and a Not Applicable column (resource does not exist).

NPS Response/Action Taken:

• We will revisit the forms to try to address the issues the commenter identified, such as possibly placing form fields in the document for responses so that applicants don't feel the need to enter their responses in colored text. We note that some of the issues the commenter described can be caused by how these documents are saved and shared for use, which may erase formatting.

• The tables in Section 3.C were revised to remove the response indicating more research is needed and to restore a “not present or N/A” option in Table 1. (Conforming changes were made to the same tables in Section 3.A of the C&S Form.)

• To accommodate the request proposing additional instructions for questions the NPS will create annotated versions of the forms to provide additional guidance.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Land and Water Conservation Fund Act of 1965, as amended (LWCF Act) (54 U.S.C. 200305 et. seq.) was enacted to help preserve, develop, and ensure access for the public to outdoor recreation opportunities. Among other programs, the LWCF Act provides funds for and authorizes federal assistance to the States for planning, acquisition, and development of needed land and water areas and facilities for outdoor recreation purposes. In accordance with the LWCF Act, the National Park Service (we, NPS) administers the LWCF State Assistance Program, which provides matching grants to States,

LWCF grants are provided to states (including the 50 states; the Commonwealths of Puerto Rico and the Northern Mariana Islands; the District of Columbia; and the Territories of Guam, the U.S. Virgin Islands, and American Samoa) on a matching basis for up to 50 percent of the total project-related allowable costs. Grants to eligible insular areas may be for 100 percent assistance. Payments for all projects are made to the state organization that is authorized to accept and administer funds paid for approved projects. Local units of government participate in the program as sub-grantees of the state with the state retaining primary grant compliance responsibility. The following updates are included as revisions to this collection:

1. New Requirement—Standard Form SF-429. In accordance with DOI's regulations at 2 CFR 1402, the SF-429 Real Property Status Report Cover Sheet and Attachment B, Request to Acquire, Furnish, or Improve, is required for projects requesting LWCF assistance for land acquisition. For post-grant completion stewardship reporting, the Cover Sheet and Attachment A, General Reporting are required.

Title of Collection: Land and Water Conservation Fund State Assistance Program.

OMB Control Number: 1024-0031.

Form Number: NPS Forms 10-902A, 10-903, 10-904, 10-904A, 10-905 and Standard Form SF429.

Type of Review: Revision of a currently approved collection.

Respondents/Affected Public: States Governments; the Commonwealths of Puerto Rico and the Northern Mariana Islands; the District of Columbia; and the territories of Guam, U.S. Virgin Islands, and American Samoa.

Total Estimated Number of Annual Respondents: 423.

Total Estimated Number of Annual Responses: 7,797.

Total Estimated Number of Annual Burden Hours: 56,249.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-21680 Filed 9-29-23; 8:45 am]

BILLING CODE 4312-52-P